DEPARTMENT OF AGRICULTURE

National Institute of Food and Agriculture

Notice of Intent To Renew a Currently Approved Information Collection

AGENCY: National Institute of Food and Agriculture, USDA.

ACTION: Notice and request for comments.

SUMMARY: In accordance with Office of Management and Budget (OMB) regulations that implement the Paperwork Reduction Act of 1995, this notice announces the National Institute of Food and Agriculture's (NIFA) intention to request Office of Management and Budget (OMB) approval for the revision and extension of a currently approved information collection for the Expanded Food and Nutrition Education Program (EFNEP).

DATES: To assure consideration, written comments on this notice are due 60 days from the publication of this notice. Comments received after the 60th day may not be considered.

METHOD OF COMMENT SUBMISSION: Applicants may submit written comments concerning this notice or requests for copies of the information collection by Email: rmartin@nifa.usda.gov; or Mail: Office of Information Technology (OIT), NIFA, USDA, STOP 2216, 1400 Independence Avenue SW, Washington, DC 20250-2216.

AGENCY CONTACT: Robert Martin, e-Government Program Leader; Email: rmartin@nifa.usda.gov.

SUPPLEMENTARY INFORMATION: Title: Expanded Food and Nutrition Education Program.

OMB Number: 0524-0044.

Expiration Date of Current Approval: April 30, 2019.

Type of Request: Intent to seek revision and extension of a currently approved information collection for three years.

Abstract: NIFA's Expanded Food and Nutrition Education Program (EFNEP) is a unique program that began in 1969 and is designed to reach limited resource audiences, especially youth and families with young children. EFNEP is authorized under section 1425 of the National Agricultural Research, Extension, and Teaching Policy Act of 1977 (7 U.S.C. 3175 and funded under section 3(d) of the Smith-Lever Act (7 U.S.C. 343(d)). Extension professionals train and supervise paraprofessionals and volunteers who teach food and nutrition information and skills to limited families and youth. EFNEP operates through the 1862 and 1890 Land Grant Universities (LGU) in all 50 States, the District of Columbia, and in American Samoa, Guam, Micronesia, Northern Marianas, Puerto Rico, and the Virgin Islands.

The objectives of EFNEP are to assist families and youth with limited resourced in acquiring the knowledge, skills, attitudes, and changed behaviors necessary for nutritionally sound diets, and to contribute to their personal development and the improvement of the total family diet and nutritional well-being.

NIFA sponsors an integrated data collection process that is used at the county, State, and Federal level. The current data collection system, the Web based Nutrition Education Evaluation and Reporting System (WebNEERS), captures EFNEP impacts. Its purpose is to gauge if the Federal assistance provided has had an impact on the target audience. It also enables EFNEP staff to make programmatic improvements in delivering nutrition education. Further, the data collected provide information for program management decisions and diagnostic assessments of participants' needs. In order to capture all of EFNEP's reporting requirements in one place, EFNEP program plans and budgetary data are now submitted, reviewed, and approved through WebNEERS. These specific reporting requirements are tied to release of Federal EFNEP funds.

WebNEERS grew out of EFNEP's long-standing commitment to program evaluation. Since EFNEP's inception in 1969, states have annually reported demographic and dietary behavior change of their EFNEP audience to the federal National Program Leader at NIFA, and its preceding agencies within USDA. Increased rigor and attention to data collection began in 1990 in response to communications with staff from the House Committee on Agriculture, who expressed a need for greater accountability and the ability to show the degree to which EFNEP was meeting its objectives. Representatives from the Economic Research Service, Food and Nutrition Service, USDA Office of Budget and Program analysis, as well as evaluation specialists from the Federal Extension Service and its university partners, identified the most valuable behaviors to measure, which then became the core components of the system. Concurrence was received from staff for the House Committee on Agriculture. Over the years, the system has been upgraded to align with technological advancements, incorporate relevant evidence-based practices and practice-based evidence, and address changes in data collection standards and requirements (e.g., data collection on race/ethnicity, updates to the U.S. dietary guidelines, etc.) Data submission has evolved from paper forms, to discs, to the current web-based system. With each of these evolutionary changes, the data collection system was also reviewed for appropriateness and need for changes to collected content. Development of Web-NEERS began in FY 2011; national implementation of this web-based platform began in FY 2013. Web-NEERS and its predecessor collection systems have been approved by OMB.

Specifications for WebNEERS were developed by a committee of representatives from the EFNEP and Extension community and others with content and audience expertise from across the United States. These specifications are in compliance with Federal Equal Employment Opportunity standards for maintaining, collecting, and presenting data on race and ethnicity, and protecting personally identifiable information. WebNEERS stores information on:

(1) Adult program participants, their family structure, and dietary practices;

(2) Youth group participants;

(3) Staff;

(4) Annual budgets; and

(5) Annual program plans.

WebNEERS is a secure online system designed, hosted, and maintained by Clemson University. WebNEERS is accessed through the internet via Internet Explorer, Firefox, Google Chrome, and Safari web browsers. It can also be accessed through mobile devices and tablets. The existing system incorporates local, university, and Federal components, the EFNEP 5-Year Plan/Annual Update (program plan), the EFNEP budget and budget justification, and the social ecological framework of the Community Nutrition Education (CNE) logic model. Only approved users can access WebNEERS and each user can only access data based on his/her defined permissions. The system also has the capability to export raw data for external analysis. Data exported from WebNEERS do not include personally identifiable information. Several stakeholder groups provide ongoing input on the system to ensure: (1) That EFNEP only collects data NIFA needs for evaluation and reporting purposes, and (2) to resolve bugs or other concerns experienced users. These stakeholder groups also give feedback to improve user interfaces and to improve functionality and capabilities of the system.

The evaluation processes of EFNEP remain consistent with the requirements of Congressional legislation and OMB. The Government Performance and Results Act (GPRA) of 1993.

WebNEERS is a single web-based system that operates at three levels: Region (County); Institution (university), and Federal. Data is entered at the regional level and is available in aggregated form at the Institution level in real time. University staff are able to generate institutional-level reports to guide program management decisions and to inform State-level stakeholders.¹ In States that have both 1862 and 1890 LGUs, separate reports are generated by each type of institution on the respective audiences served. A permissions process is used to allow data to flow from the Region, to the Institution, to the Federal level. Data is not available at the Federal level until the university staff submits it. This process allows for State and National assessments of the program's impact. National data is used to create National reports, which are made available to the public.

¹ “States” includes all 50 states, the District of Columbia, and insular areas.

There are revisions to the currently approved collection. WebNEERS uses an agile development process, which allows software developers to work closely with users to operate smoothly, maintain securities, improve efficiencies, and function effectively in the ever changing environment in which EFNEP is administered. It also supports an accelerated incorporation of research-based indicators to appropriately identify behavioral change. Two key developments have been made since the last OMB approval. First was the replacement of the Adult Behavior Checklist—a measurement tool that had been used for more than 25 years—with a new Food and Physical Activity Questionnaire. Prior to implementation, the new tool was tested for feasibility, validity, and reliability with the target audience via a multistate research group with programmatic expertise and experience. Second was the replacement of the evaluation form for youth grades 3-5. Replacement of youth evaluation indicators is an ongoing initiative within EFNEP to ensure that the tools used are valid, reliable, and programmatically and developmentally appropriate. Grades K-2 and 3-5 have been completed. Review and development of indicators to potentially replace the existing tools for grades 6-8 and 9-12 has just begun.

Estimate of Burden: The total annual estimated burden for WebNEERS is 15,440 hours for this data collection process—for participant education and data entry, aggregation, and reporting; and for preparation, review, and submission of EFNEP program plans and budgetary information. The burden for respondents was determined in two parts:

(1) Regional data estimates (14,048.73 hours)—were determined from time stamp averages. All FY 2018 records were analyzed to identify those which involved a time lapse representing data entry and submission. Periodic samples (every 10,000 records) were then used to calculate the average length of time for each type of record. Averages were multiplied by the total number of records to get the final estimate.

(2) Institutional data estimates (421.4 hours)—included program plans and budgetary information. These estimates were based on calculations of the previous survey sent by Clemson University to nine EFNEP Coordinators and their data managers, since the type of data collected remains unchanged and since a time stamp process is not yet in place to determine those calculations.

Overall, burden estimates are considerably lower than previously estimated—particularly at the regional level. This is likely due to the use of a different methodology involving technology to help determine the estimated burden. Although additional reporting requirements were included in the updated system with the implementation of the new food and physical activity questionnaire (e.g. the use of 20 rather than 10 questions), the overall burden to the users was reduced.

Respondents: Individuals, households, business or other for-profit or not-for-profit institutions.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Done in Washington, DC, this 18th day of April, 2019.
Steve Censky,
Deputy Secretary, U.S. Department of Agriculture.

[FR Doc. 2019-08438 Filed 4-25-19; 8:45 am]

BILLING CODE 3410-22-P